DEPARTMENT OF ENERGY

Federal Energy Regulatory Commission

Notice of Commission Staff Attendance at Organization of MISO States and Midwest ISO Meetings

January 12, 2010.

The Federal Energy Regulatory Commission hereby gives notice that members of the Commission and Commission staff may attend the following Midwest Independent Transmission System Operator, Inc.-related and Organization of MISO States (OMS) meetings:

Regional Expansion and Criteria & Benefits Task Force

January 14, 2010, Thursday, St. Paul, MN; 9 a.m. to 5 p.m. CT

January 15, 2010, Friday, St. Paul, MN; 8 a.m. to 12 p.m. CT

January 25, 2010, Monday, Carmel, IN; 2 p.m. to 5 p.m. ET

January 26, 2010, Tuesday, Carmel, IN; 9 a.m. to 4 p.m. ET

February 11, 2010, Thursday, St. Paul, MN; 9 a.m. to 5 p.m. CT

February 12, 2010, Friday, St. Paul, MN; 8 a.m. to 12 p.m. CT

February 22, 2010, Monday, Carmel, IN; 12 p.m. to 5 p.m. ET

February 23, 2010, Tuesday, Carmel, IN; 9 a.m. to 4 p.m. ET

March 11, 2010, Thursday, St. Paul, MN; 9 a.m. to 5 p.m. CT

March 12, 2010, Friday, St. Paul, MN; 8 a.m. to 12 p.m. CT

March 22, 2010, Monday, Carmel, IN; 12 p.m. to 5 p.m. ET

March 23, 2010, Tuesday, Carmel, IN; 9 a.m. to 4 p.m. ET

April 8, 2010, Thursday, St. Paul, MN; 9 a.m. to 5 p.m. CT

April 9, 2010, Friday, St. Paul, MN; 8 a.m. to 12 p.m. CT

April 19, 2010, Monday, Carmel, IN; 12 p.m. to 5 p.m. ET

April 20, 2010, Tuesday, Carmel, IN; 9 a.m. to 4 p.m. ET

May 13, 2010, Thursday, St. Paul, MN; 9 a.m. to 5 p.m. CT

May 14, 2010, Friday, St. Paul, MN; 8 a.m. to 12 p.m. CT

May 24, 2010, Monday, Carmel, IN; 12 p.m. to 5 p.m. ET

May 25, 2010, Tuesday, Carmel, IN; 9 a.m. to 4 p.m. ET

June 10, 2010, Thursday, St. Paul, MN; 9 a.m. to 5 p.m. CT

June 11, 2010, Friday, St. Paul, MN; 8 a.m. to 12 p.m. CT

June 21, 2010, Monday, Carmel, IN; 12 p.m. to 5 p.m. ET

June 22, 2010, Tuesday, Carmel, IN; 9 a.m. to 4 p.m. ET

July 8, 2010, Thursday, St. Paul, MN; 9 a.m. to 5 p.m. CT

July 9, 2010, Friday, St. Paul, MN; 8 a.m. to 12 p.m. CT

July 19, 2010, Monday, Carmel, IN; 12 p.m. to 5 p.m. ET

July 20, 2010, Tuesday, Carmel, IN; 9 a.m. to 4 p.m. ET

OMS Cost Allocation and Regional Planning

January 12, 2010, Tuesday: Hilton Garden Inn, 411 Minnesota Street, St. Paul, MN, 8 a.m. to 5 p.m. CT.

January 13, 2010, Wednesday: Hilton Garden Inn, 411 Minnesota Street, St. Paul, MN, 8 a.m. to 5 p.m. CT.

February 9, 2010, Tuesday, St. Paul, MN; 8 a.m. to 5 p.m. CT

February 10, 2010, Wednesday, St. Paul, MN; 8 a.m. to 5 p.m. CT

March 9, 2010, Tuesday, St. Paul, MN; 8 a.m. to 5 p.m. CT

March 10, 2010, Wednesday, St. Paul, MN; 8 a.m. to 5 p.m. CT

All meetings scheduled to be held in Carmel will take place at: Midwest ISO Headquarters, 720 City Center Drive, Carmel, IN 46032.

Except as otherwise noted above, the meetings scheduled to be held in St. Paul will take place at:

1125 Energy Park Drive, St. Paul, MN 55108, and

Minnesota Public Utilities Commission, 121 7th Place East, Suite 350, St. Paul, MN 55101-2147.

Further information may be found at http://www.midwestiso.org.

The above-referenced meetings are open to the public.

The discussions at each of the meetings described above may address matters at issue in the following proceedings:

Docket No. AD07-12, Reliability Standard Compliance and Enforcement in Regions with Independent System Operators and Regional Transmission Organizations

Docket Nos. EC06-4 and ER06-20, Louisville Gas and Electric Company, et al.

Docket No. ER02-488, Midwest Independent Transmission System Operator, Inc.

Docket Nos. ER02-2595, et al., Midwest Independent Transmission System Operator, Inc.

Docket No. ER04-375, Midwest Independent Transmission System Operator, Inc., et al.

Docket Nos. ER04-458, et al., Midwest Independent Transmission System Operator, Inc.

Docket Nos. ER04-691, EL04-104 and ER04-106, et al., Midwest Independent Transmission System Operator, Inc., et al.

Docket No. ER05-6, et al., Midwest Independent Transmission System Operator, Inc., et al.

Docket No. ER05-636, Midwest Independent Transmission System Operator, Inc.

Docket No. ER05-752, Midwest Independent Transmission System Operator, Inc. and PJM Interconnection, L.L.C.

Docket No. ER05-1047, Midwest Independent Transmission System Operator, Inc.

Docket No. ER05-1048, Midwest Independent Transmission System Operator, Inc.

Docket No. ER05-1083, et al., Midwest Independent Transmission System Operator, Inc., et al.

Docket No. ER05-1085, et al., Midwest Independent Transmission System Operator, Inc.

Docket No. ER05-1138, Midwest Independent Transmission System Operator, Inc.

Docket No. ER05-1201, Midwest Independent Transmission System Operator, Inc.

Docket No. ER05-1230, Midwest Independent Transmission System Operator, Inc.

Docket No. EL05-103, Northern Indiana Power Service Co. v. Midwest Independent Transmission System Operator, Inc. and PJM Interconnection, L.L.C.

Docket No. EL05-128, Quest Energy, L.L.C. v. Midwest Independent Transmission System Operator, Inc.

Docket Nos. ER06-18, et al., Midwest Independent Transmission System Operator, Inc.

Docket No. ER06-22, Midwest Independent Transmission System Operator, Inc.

Docket No. ER06-27, Midwest Independent Transmission System Operator, Inc., et al.

Docket No. ER06-56, Midwest Independent Transmission System Operator, Inc.

Docket No. ER06-192, Midwest Independent Transmission System Operator, Inc.

Docket No. ER06-356, Midwest Independent Transmission System Operator, Inc.

Docket No. ER06-360, et al., Midwest Independent Transmission System Operator, Inc., et al.

Docket No. ER06-532, Midwest Independent Transmission System Operator, Inc.

Docket No. ER06-731, Independent Market Monitor for the Midwest Independent Transmission System Operator, Inc.

Docket No. ER06-866, Midwest Independent Transmission System Operator, Inc.

Docket No. ER06-881, Midwest Independent Transmission System Operator, Inc.

Docket No. ER06-1420, Midwest Independent Transmission System Operator, Inc.

Docket No. ER06-1536, Midwest Independent Transmission System Operator, Inc.

Docket No. ER06-1552, Midwest Independent Transmission System Operator, Inc.

Docket No. EL06-31, Midwest Independent Transmission System Operator, Inc., et al.

Docket No. EL06-49, Midwest Independent Transmission System Operator, Inc., et al.

Docket No. EL06-80, Midwest Independent Transmission System Operator, Inc.

Docket No. ER07-53, Midwest Independent Transmission System Operator, Inc.

Docket No. ER07-478, Midwest Independent Transmission System Operator, Inc.

Docket No. ER07-532, Midwest Independent Transmission System Operator, Inc.

Docket No. ER07-580, Midwest Independent Transmission System Operator, Inc.

Docket No. ER07-815, Midwest Independent Transmission System Operator, Inc.

Docket No. ER07-940, Midwest Independent Transmission System Operator, Inc., et al.

Docket No. ER07-1141, International Transmission Co., et al.

Docket No. ER07-1144, American Transmission Co. LLC, et al.

Docket No. ER07-1182, Midwest Independent Transmission System Operator, Inc.

Docket Nos. ER07-1233 and ER07-1261, Midwest Independent Transmission System Operator, Inc.

Docket No. ER07-1372, Midwest Independent Transmission System Operator, Inc.

Docket No. ER07-1375, Midwest Independent Transmission System Operator, Inc.

Docket No. ER07-1388, Midwest Independent Transmission System Operator, Inc.

Docket No. ER07-1417, Midwest Independent Transmission System Operator, Inc., et al.

Docket No. EL07-44, Dakota Wind Harvest, LLC v. Midwest Independent Transmission System Operator, Inc., et al.

Docket No. EL07-79, Midwest Independent Transmission System Operator, Inc.

Docket Nos. EL07-86, EL07-88, EL07-92, Ameren Services Co., et al. v. Midwest Independent Transmission System Operator, Inc., et al.

Docket No. EL07-100, E.ON U.S. LLC v. Midwest Independent Transmission System Operator, Inc.

Docket No. ER08-15, Midwest ISO Transmission Owners

Docket No. ER08-55, Midwest Independent Transmission System Operator, Inc., et al.

Docket No. ER08-109, Midwest Independent Transmission System Operator, Inc.

Docket Nos. ER08-185 and ER08-186, Ameren Energy Marketing Company, et al.

Docket No. ER08-207, Midwest Independent Transmission System Operator, Inc.

Docket No. ER08-209, Midwest Independent Transmission System Operator, Inc.

Docket No. ER08-269, Midwest Independent Transmission System Operator, Inc.

Docket No. ER08-296, Midwest Independent Transmission System Operator, Inc.

Docket No. ER08-320, Midwest Independent Transmission System Operator, Inc.

Docket No. ER08-370, Midwest Independent Transmission System Operator, Inc.

Docket No. ER08-394, Midwest Independent Transmission System Operator, Inc.

Docket No. ER08-404, Midwest Independent Transmission System Operator, Inc.

Docket No. ER08-637, Midwest Independent Transmission System Operator, Inc.

Docket No. ER08-925, Midwest Independent Transmission System Operator, Inc.

Docket No. ER08-1043, Midwest Independent Transmission System Operator, Inc.

Docket No. ER08-1074, Midwest Independent Transmission System Operator, Inc.

Docket No. ER08-1169, Midwest Independent Transmission System Operator, Inc.

Docket No. ER08-1244, Midwest Independent Transmission System Operator, Inc.

Docket No. ER08-1252, Midwest Independent Transmission System Operator, Inc.

Docket No. ER08-1285, Midwest Independent Transmission System Operator, Inc.

Docket No. ER08-1309, Midwest Independent Transmission System Operator, Inc.

Docket No. ER08-1370, Midwest Independent Transmission System Operator, Inc.

Docket No. ER08-1399, Midwest Independent Transmission System Operator, Inc.

Docket No. ER08-1400, Midwest Independent Transmission System Operator, Inc.

Docket No. ER08-1401, Midwest Independent Transmission System Operator, Inc.

Docket No. ER08-1404, Midwest Independent Transmission System Operator, Inc.

Docket No. ER08-1435, Midwest Independent Transmission System Operator, Inc.

Docket No. ER08-1485, Midwest Independent Transmission System Operator, Inc.

Docket No. ER08-1486, Midwest Independent Transmission System Operator, Inc.

Docket No. ER08-1505, Midwest Independent Transmission System Operator, Inc.

Docket No. ER09-59, American Transmission Company, Inc.

Docket No. ER09-66, Midwest Independent Transmission System Operator, Inc.

Docket No. ER09-83, Midwest Independent Transmission System Operator, Inc.

Docket No. ER09-91, Midwest Independent Transmission System Operator, Inc.

Docket No. ER09-108, Midwest Independent Transmission System Operator, Inc.

Docket No. ER09-117, Midwest Independent Transmission System Operator, Inc.

Docket No. ER09-123, Midwest Independent Transmission System Operator, Inc.

Docket No. ER09-160, Midwest Independent Transmission System Operator, Inc.

Docket No. ER09-180, Midwest Independent Transmission System Operator, Inc.

Docket No. ER09-245, Midwest Independent Transmission System Operator, Inc.

Docket No. ER09-266, Midwest Independent Transmission System Operator, Inc.

Docket No. ER09-267, Midwest Independent Transmission System Operator, Inc.

Docket No. ER09-403, Midwest Independent Transmission System Operator, Inc.

Docket No. ER09-499, Midwest Independent Transmission System Operator, Inc.

Docket No. ER09-506, Midwest Independent Transmission System Operator, Inc.

Docket No. ER09-512, Midwest Independent Transmission System Operator, Inc.

Docket No. ER09-573, Midwest Independent Transmission System Operator, Inc.

Docket No. ER09-592, Midwest Independent Transmission System Operator, Inc.

Docket No. ER09-654, Midwest Independent Transmission System Operator, Inc.

Docket No. ER09-660, Midwest Independent Transmission System Operator, Inc.

Docket No. ER09-769, Midwest Independent Transmission System Operator, Inc.

Docket No. ER09-774, Midwest Independent Transmission System Operator, Inc.

Docket No. ER09-783, Midwest Independent Transmission System Operator, Inc.

Docket No. ER09-785, Midwest Independent Transmission System Operator, Inc.

Docket No. ER09-788, Midwest Independent Transmission System Operator, Inc.

Docket No. ER09-807, Midwest Independent Transmission System Operator, Inc.

Docket No. ER09-827, Midwest Independent Transmission System Operator, Inc.

Docket No. ER09-839, Midwest Independent Transmission System Operator, Inc.

Docket No. ER09-861, Midwest Independent Transmission System Operator, Inc.

Docket No. ER09-991, Midwest Independent Transmission System Operator, Inc.

Docket No. ER09-994, Midwest Independent Transmission System Operator, Inc.

Docket No. ER09-998, Midwest Independent Transmission System Operator, Inc.

Docket No. ER09-999, Midwest Independent Transmission System Operator, Inc.

Docket No. ER09-1049, Midwest Independent Transmission System Operator, Inc.

Docket No. ER09-1074, Midwest Independent Transmission System Operator, Inc.

Docket No. ER09-1126, Midwest Independent Transmission System Operator, Inc.

Docket No. ER09-1369, Midwest Independent Transmission System Operator, Inc.

Docket No. ER09-1396, Midwest Independent Transmission System Operator, Inc.

Docket No. ER09-1422, Midwest Independent Transmission System Operator, Inc.

Docket No. ER09-1431, Midwest Independent Transmission System Operator, Inc.

Docket No. ER09-1432, Midwest Independent Transmission System Operator, Inc.

Docket No. ER09-1435, Midwest Independent Transmission System Operator, Inc.

Docket No. ER09-1526, Midwest Independent Transmission System Operator, Inc.

Docket No. ER09-1543, Midwest Independent Transmission System Operator, Inc.

Docket No. ER09-1575, Midwest Independent Transmission System Operator, Inc.

Docket No. ER09-1581, Midwest Independent Transmission System Operator, Inc.

Docket No. ER09-1619, Midwest Independent Transmission System Operator, Inc.

Docket No. ER09-1719, Midwest Independent Transmission System Operator, Inc.

Docket No. ER09-1727, Midwest Independent Transmission System Operator, Inc.

Docket No. ER09-1769, Midwest Independent Transmission System Operator, Inc.

Docket No. ER09-1779, Midwest Independent Transmission System Operator, Inc.

Docket No. ER10-8, Midwest Independent Transmission System Operator, Inc.

Docket No. ER10-27, Midwest Independent Transmission System Operator, Inc.

Docket No. ER10-277, Midwest Independent Transmission System Operator, Inc.

Docket No. ER10-279, Midwest Independent Transmission System Operator, Inc.

Docket No. ER10-224, Midwest Independent Transmission System Operator, Inc.

Docket No. ER10-128, Midwest Independent Transmission System Operator, Inc.

Docket No. ER10-191, E.ON U.S. LLC

Docket No. OA07-57, Midwest Independent Transmission System Operator, Inc.

Docket No. OA08-4, Midwest ISO Transmission Owners, et al.

Docket No. OA08-14, Midwest Independent Transmission System Operator, Inc.

Docket No. OA08-42, Midwest Independent Transmission System Operator, Inc.

Docket No. OA08-53, Midwest Independent Transmission System Operator, Inc.

Docket No. OA08-106, Midwest Independent Transmission System Operator, Inc.

Docket No. OA09-7, Midwest Independent Transmission System Operator, Inc.

Docket Nos. RR07-2, et al., Delegation Agreement Between the North American Electric Reliability Corporation and Midwest Reliability Organization, et al.

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Kimberly D. Bose,
Secretary.

[FR Doc. 2010-912 Filed 1-19-10; 8:45 a.m.]

BILLING CODE 6717-01-P